DEPARTMENT OF TRANSPORTATION

Federal Aviation Administration

Public Notice For Waiver of Aeronautical Land-Use Assurance; Toledo Express Airport; Toledo, OH

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of sixty-seven parcels of land totaling approximately 122.5 acres for industrial land use. Current use and present condition is vacant grassland. There are no impacts to the airport by allowing the airport to dispose of this property. The land was acquired under FAA Project No(s). AIP-3-39-0077-1190, AIP-3-39-0077-1692, AIP-3-39-0077-1993, AIP-3-39-0077-2293, AIP-3-39-0077-2594, and AIP-3-39-0077-2794. Approval does not constitute a commitment by the FAA to financially assist in the sale of the subject airport property nor a determination that all measures covered by the program are eligible for Airport Improvement Program funding from the FAA. The disposition of proceeds from the sale of the airport property will be in accordance with the FAA's Policy and Procedures Concerning the Use of Airport Revenue, published in the Federal Register on February 16, 1999. This proposal is for approximately 122.5 acres in total.

In accordance with section 47107(h) of title 49, United States Code, this notice is required to be published in the Federal Register 30 days before modifying the land-use assurance that requires the property to be used for an aeronautical purpose. The proposed land will be used for commercial/industrial development, which will provide additional jobs in an economically challenged area and enhance the aesthetics of the surrounding community.

The proceeds from the sale of the land will be reinvested in an approved noise compatibility project as prescribed by the Secretary of Transportation, or be paid to the Secretary of Transportation for deposit in the Trust Fund.

DATES: Comments must be received on or before January 9, 2002.

FOR FURTHER INFORMATION CONTACT: Mr. Lawrence C. King, Federal Aviation Administration, Great Lakes Region, Detroit Airports District Office, DET ADO-670.2, Willow Run Airport, East, 8820 Beck Road, Belleville, Michigan 48111, (734) 487-7293. Documents reflecting this FAA action may be reviewed at this same location or at Toledo Express Airport, Toledo, Ohio.

SUPPLEMENTARY INFORMATION: Following is a legal description of the property located in Lucas County, Ohio, and described as follows:

East 1

A parcel of land being part of Lots 3 and 4 in Ellwood Farms and Lots 13 and 14 in Hamlin's Subdivision, all in the Northeast quarter of Section 12, Town 7 North, Range 9 East, Monclova Township, Lucas County, Ohio, and being more particularly described as follows:

Commencing at the point of intersection of the South line of the Northeast quarter of said Section 12 with the Northeasterly line of the Ohio Turnpike, said point being the TRUE POINT OF BEGINNING of the parcel here in described;

thence on the Northeasterly line of the Ohio Turnpike, the following five calls: Northwesterly, on a curve to the right, a distance of 692.28 feet to a point, said curve having a radius of 22778.31 feet, a central angle of 01°44′29″, a chord bearing of North 70°43′05″ West, and a chord distance of 692.25 feet; South 00°36′17″ West, a distance of 21.22 feet to a point; Northwesterly, on a curve to the right, a distance of 209.03 feet to a point, said curve having a radius of 22798.31 feet, a central angle of 00°31′31″, a chord bearing of North 69°36′09″ West, and a chord distance of 209.03 feet; South 20°39′36″ West, a distance of 10.00 feet to a point; Northwesterly, on a curve to the right, a distance of 383.19 feet to the intersection with the West line of Lot 13 in Hamlin's Subdivision, said curve having a radius of 22808.31 feet, a central angle of 00°57′45″, a chord bearing of North 68°51′31″ West, and a chord distance of 383.19 feet;

thence North 00°45′49″ East, on the West line of said Lot 13, a distance of 473.70 feet to a point;

thence North 45°32′23″ East, a distance of 330.31 feet to the intersection with the Southwesterly right-of-way line of Garden Road, said point being 30.00 feet Southwesterly from as measured at right angles to the centerline of Garden Road;

thence South 44°27′37″ East, on the Southwesterly right-of-way line of Garden Road, said line being 30.00 feet Southwesterly from and parallel to the centerline of Garden Road, a distance of 1316.48 feet to a point;

thence South 45°32′23″ West, continuing on the right-of-way line of Garden Road, a distance of 50.00 feet to a point;

thence Southeasterly, on a curve to the left, a distance of 197.75 feet to the intersection with the South line of the Northeast quarter of Section 2, said curve having a radius of 652.94 feet, a central angle of 17°21′10″, a chord bearing of South 53°08′12″ East, and a chord distance of 197.00 feet to a point;

thence South 89°44′04″ West, on the said South line of the Northeast quarter, a distance of 54.18 feet to the TRUE POINT OF BEGINNING of the parcel herein described, said parcel containing 12.6 acres of land, more or less, subject to all easements, zoning restrictions of record and legal highways

The bearings used herein are for the purpose of describing angles only and are not referenced to true or magnetic North. This legal does not represent a boundary survey and is based on tax descriptions of the subject parcels.

East 2

A parcel of land being part of Lots 2, 3, 4 and 6 in Ellwood Farms in the Northeast quarter of Section 2, Town 7 North, Range 9 East, Monclova Township, Lucas County, Ohio, and being more particularly described as follows:

Commencing at the Southeast corner of the Northeast quarter of said Section 2, also being the intersection of the centerline of Eber Road (right-of-way varies), and the centerline of Garden Road (right-of-way varies);

thence North 00°27′34″ East line of the Northeast quarter, and the centerline of Eber Road, a distance of 330.06 feet to a point;

thence South 89°32′19″ West, a distance of 60.00 feet to a point on the south line of Lot 2 in Ellwood Farms, said point being on the West right-of-way line of Eber Road and being the TRUE POINT OF BEGINNING of the parcel here in described ;

thence south 89°32′19″ West, on the south line of Lot 2, a distance of 609.54 feet to the intersection with the East line of Lot 3 in Ellwood Farms;

thence South 00°31′55″ West, on the East line of Lot 3, a distance of 145.74 feet to the intersection with the Northeasterly right-of-way line of Garden Road;

thence Northwesterly, on a curve to the right, a distance of 36.44 feet to a point, said curve having a radius of 522.94 feet, a chord bearing of North 46°27′45″ West, and a chord distance of 36.43 feet;

thence South 45°32′23″ West, continuing on the Northeasterly right-of-way line of Garden Road, a distance of 20.00 feet to a point that is 30.00 feet Northeasterly from as measured at right angles to the centerline of Garden Road;

thence North 44°27′37″ West, on a line 30.00 feet Northeasterly from and parallel to the centerline of Garden Road, a distance of 645.32 feet to the intersection with the North line of Lot 4 in Ellwood Farms;

thence North 89°32′02″ East, on the North line of said Lot 4 and Lot 3, a distance of 497.11 feet to the Northeast corner of Lot 3, also being the Southwest corner of Lot 6;

thence North 00°31′54″ East, on the West line of Lot 6, a distance of 165.01 feet to the intersection with the North line of the South one-half of Lot 6;

thence North 89°31′54″ East, on the said North line of the South one-half of Lot 6, a distance of 638.91 feet to the intersection with the West line of Eber Road, said point being 30.00 feet Westerly from as measured at right angles to the centerline of Eber Road;

thence on the West line of Eber Road, the following seven calls: South 00°27′34″ West, a distance of 292.75 feet to a point; North 89°32′26″ West, a distance of 10.00 feet to a point; South 00°27′34″ West, a distance of 75.00 feet to a point; North 89°32′26″ West, a distance of 10.00 feet to a point; South 00°27′34″ West, a distance of 100.00 feet to a point; North 89°32′26″ West, a distance of 10.00 feet to a point; South 00°27′34″ West, a distance of 27.82 feet to the TRUE POINT OF BEGINNING of the parcel herein described, said parcel containing 10.0 acres of land, more or less, subject to all easements, zoning restrictions of record and legal highways

The bearings used herein are for the purpose of describing angles only and are not referenced to true or magnetic North. This legal does not represent a boundary survey and is based on tax descriptions or the subject parcels.

East 3

A parcel of land being part of East one-half of the West one-half of the Northwest quarter of Section 1, Town 7 North, Range 9 East, Springfield Township, Lucas County, Ohio, and being more particularly described as follows:

Commencing at the Southwest corner of the Northwest quarter of Section 1, said point also being the intersection of the centerline of Eber Road with the centerline of Garden Road;

then South 89°25′45″ East, on the South line of the Northwest quarter of Section 1, also being the centerline of Garden road (60 foot right-of-way), a distance of 670.38 feet to the intersection with the West line of the East one-half of the West one-half of the Northwest quarter of Section 1, said point also being the TRUE POINT OF BEGINNING of the parcel herein described;

thence North 00°27′03″ East, on the said West line of the East one-half of the West one-half of the Northwest quarter of Section 1, a distance of 656.52 feet to the intersection with the North line of the South 10 acres of the East one-half of the West one-half of the Northwest quarter of Section 1;

thence South 89°25′45″ East, on the said North line of the South 10 acres of the East one-half of the West one-half of the Northwest quarter of Section 1, a distance of 490.29 feet to the intersection with the East line of the West 120.00 feet of the East 300.00 feet of the South 10 acres of the East one-half of the West one-half of the Northwest quarter of Section 1;

thence South 00°26′33″ West, on the said East line of the West 120.00 feet of the East 300.00 feet of the South 10 acres of the East one-half of the West one-half of the Northwest quarter of Section 1, a distance of 656.52 feet to the intersection with the South line of the Northwest quarter of Section 1, also being the centerline of Garden Road;

thence North 89°25′45″ West, on the south line of the Northwest quarter of Section 1 and the centerline of Garden Road, a distance of 490.38 feet to the TRUE POINT OF BEGINNING of the parcel herein described, said parcel containing 7.4 acres of land, more or less, subject to all easements, zoning restrictions of record and legal highways

The bearings used herein are for the purpose of describing angles only and are not referenced to true or magnetic North. This legal does not represent a boundary survey and is based on tax descriptions of the subject parcels.

East 4

A parcel of land being part of East one-half of the Northwest quarter of Section 1, Lots 145 through 160, Lot 176 and that portion of Leighton Drive vacated in Trotter Whelan Co. Plat 3 Subdivision, all in Town 7 North, Range 9 East, Springfield Township, Lucas County, Ohio, and being more particularly described as follows:

Commencing at the Southeast corner of Lot 145 in Trotter Whelan Co. Plat 3, also being the intersection of the North line of Garden Road and West line of Mescher road, said point being the TRUE POINT OF BEGINNING of the parcel herein described;

thence North 89°25′45″ West, on the South line of Lots 145 through 147 in said Trotter Whelan Co. Plat 3, also being the North right-of-way line of Garden Road, said line of the Northwest quarter of Section 1, a distance of 348.60 feet to the Southwest corner of said Lot 147;

thence South 00°25′32″ West, a distance of 40.00 feet to the intersection with the South line of the Northwest quarter of Section 1, also being the centerline of Garden Road;

thence North 89°25′45″ West, on the South line of the Northwest quarter of Section 1, also being the centerline of Garden Road (60 foot right-of-way), a distance of 486.97 feet to the intersection with the East line of the West 96.75 feet of the East one-half of the Northwest quarter of Section 1;

thence North 00°26′33″ East, on the said East line of the West 96.75 feet of the East one-half of the Northwest quarter of Section 1, a distance of 441.13 feet to the intersection with the centerline of a ditch;

thence South 79°30′54″ East, on the centerline of said ditch, a distance of 494.44 feet to the intersection with the West line of Lot 148 in Trotter Whelan Co. Plat 3;

thence North 00°25′32″ East, on the West line of Lots 148 through 160 and Lot 176, a distance of 1251.00 feet to the Northwest corner of Lot 160;

thence South 89°34′28″ East, on the North line of Lot 160, a distance of 348.60 feet to the Northeast corner of Lot 160, on the Westerly right-of-way line of Mescher Drive (80 foot right-of-way);

thence South 00°25′32″ West, on the East line of Lots 145 through 160, and the East line of that portion of Leighton Drive vacated, said line also being the Westerly right-of-way line of Mescher Drive, a distance of 1567.88 feet to the TRUE POINT OF BEGINNING of the parcel herein described, said parcel containing 17.0 acres of land, more or less, subject to all easements, zoning restrictions of record and legal highways

The bearings used herein are for the purpose of describing angles only and are not referenced to true or magnetic North. This legal does not represent a boundary survey and is based on tax descriptions of the subject parcels.

East 5

A parcel of land being Lots 119 through 144 in Trotter Whelan Co. Plat 3 Subdivision, in Town 7 North, Range 9 East, Springfield Township, Lucas County, Ohio, and being more particularly described as follows:

Commencing at the Southeast corner of Lot 142 in Trotter Whelan Co. Plat 3, being on the North right-of-way line of Garden Road, said point being the TRUE POINT OF BEGINNING of the parcel herein described;

thence North 89°25′45″ West, on the South line of Lots 142 through 144 in said Trotter Whelan Co. Plat 3, and on the North right-of-way line of Garden Road, said line being 40.00 feet Northerly of and parallel to the South line of the Northwest quarter of Section 1, a distance of 328.70 feet to the Southwest corner of said Lot 144, also being the intersection with the East line of Mescher Drive (80 foot right-of-way);

thence North 00°25′32″ East, on the East line of said Mescher Drive and as extended past Leighton Drive and Block Drive, also being the West line of Lots 119 through 144, a distance of 2617.72 feet to the Northwest corner of Lot 119;

thence South 89°40′48″ East, on the North line of Lot 119, a distance of 328.7 feet to the Northeast corner of Lot 119 at the intersection with the East line of the Northwest quarter of Section 1;

thence South 00°25′32″ West, on the said East line of Lots 119 through 144 and Lots 174 and 175 also being the East line of the Northwest quarter of Section 1, a distance of 2619,16 feet to the TRUE POINT OF BEGINNING of the parcel herein described, said parcel containing 19.7 acres of land, more or less, subject to all easements, zoning restrictions of record and legal highways, excepting that part of the previously described parcel lying within the right-of-way's of Leighton Drive and Block Drive

The bearings used herein are for the purpose of describing angles only and are not referenced to true or magnetic North. This legal does not represent a boundary survey and is based on tax descriptions of the subject parcels.

East 6

A parcel of land being part of the Southwest quarter of the Northeast quarter of Section 1, Town 7 North, Range 9 East, Springfield Township, Lucas County, Ohio, and being more particularly described as follows:

Commencing at the center of said Section 1, point also being on the centerline of Garden Road (60 foot right-of-way);

thence South 90°25′45″ East, on the south line of the Northeast quarter of Section 1, and on the centerline of Garden Road, a distance of 335.09 feet to the Intersection with the West line of the East one-half of West one-half of the Southwest quarter of the Northeast quarter of Section 1, said point being the TRUE POINT OF BEGINNING of the parcel herein described;

thence North 00°25′22″ East, on the said West line of the East one-half of the West one-half of the Southwest quarter of the Northeast quarter of Section 1, a distance of 665.12 feet to the intersection with the North line of the South one-half of the West one-half of the Southeast quarter of the Northeast quarter of Section 1;

thence South 89°29′09″ East, on the said North line of the South one-half of the West one-half of the Southeast quarter of the Northeast quarter of Section 1, a distance of 335.06 feet to the intersection with the East line of the West one-half of the Southwest quarter of the Northeast quarter of Section 1;

thence South 00°25′12″ West, on the said East line of the West one-half of the Southwest quarter of the Northeast quarter of Section 1, a distance of 665.45 feet to the intersection with the South line of the Northeast quarter of Section 1, also being the centerline of Garden Road;

thence North 89°25′45″ West, on the South line of the Northeast quarter of Section 1, and on the centerline of Garden Road, a distance of 335.09 feet to the TRUE POINT OF BEGINNING of the parcel herein described, said parcel containing 5.1 acres of land, more or less, subject to all easements, zoning restrictions of record and legal highways

The bearings used herein are for the purpose of describing angles only and are not referenced to true or magnetic North. This legal does not represent a boundary survey and is based on tax descriptions of the subject parcels.

East 7

A parcel of land being part of the Southwest quarter of the Northeast quarter of Section 1, Town 7 North, Range 9 East, Springfield Township, Lucas County, Ohio, and being more particularly described as follows:

Commencing at the Southeast corner of the Southwest quarter of the Northeast quarter of Section 1, said point being on the centerline of Garden Road (60 foot right-of-way) and also being the TRUE POINT OF BEGINNING of the parcel herein described;

thence North 89°25′45″ West, on the South line of the Northeast quarter of Section 1 and on the centerline of Garden Road, a distance of 30.13 feet to a point;

thence North 00°32′19″ East, a distance of 732.50 feet to a point;

thence North 89°25′45″ West, a distance of 306.51 feet to a point;

thence South 00°25′03″ West, a distance of 732.50 feet to the intersection with the South line of the Northeast quarter of Section 1, also being the centerline of Garden Road;

thence North 89°25′45″ West, on the South line of the Northeast quarter of Section 1 and the centerline of Garden Road, a distance of 221.22 feet to a point;

thence North 00°25′12″ East, a distance of 1331.12 feet to the intersection with the North line of the Southwest quarter of the Northeast quarter of Section 1;

thence South 89°32′31″ East, on the said North line of the Southwest quarter of the Northeast quarter of Section 1, a distance of 556.18 feet to the intersection with the East line of the Southwest quarter of the Northeast quarter of Section 1;

thence South 00°24′53″ West, on the East line of the Southwest quarter of the Northeast quarter of Section 1, a distance of 1332.22 feet to the TRUE POINT OF BEGINNING of the parcel herein described, said parcel containing 11.8 acres of land, more or less, subject to all easements, zoning restrictions of record and legal highways

The bearings used herein are for the purpose of describing angles only and are not referenced to true or magnetic North. This legal does not represent a boundary survey and is base don tax descriptions of the subject parcels.

East 8

A parcel of land being part of Original Lot 1 in Fractional Section 6, Town 7 North, Range 10 East, Springfield Township, Lucas County, Ohio, and being more particularly described as follows:

Commencing at the Northeast corner of said Original Lot 1, point being on the centerline of Crissey Road (60 foot right-of-way), said point also being the TRUE POINT OF BEGINNING of the parcel herein described;

thence South 00°47′46″ West, on the East line of said Original Lot 1, and on the centerline of Crissey Road, a distance of 289.97 feet to a point;

thence North 89°51′04″ West, a distance of 1502.37 feet to the intersection with the West line of said Lot 1, also being the West line of Fractional Section 6;

thence North 00°24′14″ East, on the East line of Original Lot 1, a distance of 289.95 feet to the intersection with the North line of Original Lot 1, also being the North line of Fractional Section 6;

thence South 89°51′04″ East, on the North line of Original Lot 1, and the North line of Fractional Section 6, a distance of 1504.36 feet to the TRUE POINT OF BEGINNING of the parcel herein described, said parcel containing 10.0 acres of land, more or less, subject to all easements, zoning restrictions of record and legal highways

The hearings used herein are for the purpose of describing angles only and are not referenced to true or magnetic North. This legal does not represent a boundary survey and is based on tax descriptions of the subject parcels.

East 10

A parcel of land being part of the Southwest quarter of Section 1, Town 7 North, Range 9 East, Springfield Township, Lucas County, Ohio, and being more particularly described as follows:

Commencing at the Southwest corner of said Section 1, said point being the point of intersection of the centerline of Eber Road (60 foot right-of-way) and the centerline of Weckerly Road (60 foot right-of-way), and also being the TRUE POINT OF BEGINNING of the parcel herein described;

thence North 00°59′13″ East, on the West line of the Southwest quarter of Section 1 also being the centerline of Eber Road, a distance of 194.83 feet to the intersection with the North line of the South 6 acres of the West one-half of the Southwest quarter of Section 1;

thence North 89°39′14″ East, on the said North line of the South 6 acres of the West one-half of the Southwest quarter of Section 1, a distance of 1341.41 feet to the intersection with the East line of the West one-half of the Southwest quarter of Section 1;

thence South 00°58′47″ West, on the East line of the West one-half of the Southwest quarter of Section 1, a distance of 194.83 feet to the intersection with the South line of the Southwest quarter of Section 1, also being the centerline of Weckerly Road;

thence South 89°39′14″ West, on the South line of the Southwest quarter of Section 1, and the centerline of Weckerly Road, a distance of 1341.43 feet to the TRUE POINT OF BEGINNING of the parcel herein described, said parcel containing 6.0 acres of land, more or less, subject to all easements, zoning restrictions of record and legal highways

The bearings used herein are for the purpose of describing angles only and are not referenced to true or magnetic North. This legal does not represent a boundary survey and is based on tax descriptions of the subject parcels.

East 11

A parcel of land being part of the Northwest quarter of Section 12, Town 7 North, Range 9 East, Springfield Township, Lucas County, Ohio, and being more particularly described as follows:

Commencing at the Northwest corner of the Northwest quarter of Section 12, said point also being the intersection of the centerline of Eber Road (60 foot right-of-way), and also being the TRUE POINT OF BEGINNING of the parcel herein described;

thence North 89°39′14″ East, on the North line of the Northwest quarter of Section 12 and the centerline of Weckerly Road, a distance of 1154.40 feet to the intersection with a line that is 187.00 feet Westerly from and parallel to the East line of the Northwest quarter of the Northwest quarter of Section 12;

thence South 00°48′25″ West, on the said line that is 187.00 feet Westerly from and parallel to the East line of the Northwest quarter of the Northwest quarter of Section 12, a distance of 487.20 feet to the intersection with a line that is 487.20 feet Southerly from and parallel to the North line of the Northwest quarter of Section 12;

thence North 89°39′14″ East, on the said line being 487.20 feet Southerly from and parallel to the North line of the Northwest quarter of Section 12, a distance of 187.04 feet to the intersection with the East line of the Northwest quarter of the Northwest quarter of Section 12;

thence South 00°48′25″ West, on the said East line of the Northwest quarter of the Northwest quarter of Section 12, a distance of 324.97 feet to the intersection with the South line of the North 25 acres of the Northwest quarter of the Northwest quarter of Section 12;

thence South 89°39′14″ West, on the said South line of the North 25 acres of the Northwest quarter of the Northwest quarter of Section 12, a distance of 1339.07 feet to the intersection with the West line of the Northwest quarter of Section 12, also being the centerline of Eber Road;

thence North 00°38′24″ East, on the West line of the Northwest quarter of Section 12 and the centerline of Eber Road, a distance of 812.12 feet to the TRUE POINT OF BEGINNING of the parcel herein described, said parcel containing 22.9 acres of land, more or less, subject to all easements, zoning restrictions of record and legal highways

The bearings used herein are for the purpose of describing angles only and are not referenced to true or magnetic North. This legal does not represent a boundary survey and is based on tax descriptions of the subject parcels.

Issued in Belleville, Michigan, October 5, 2001.
Irene R. Porter,
Manager, Detroit Airports District Office, Great Lakes Region.

[FR Doc. 01-30486 Filed 12-7-01; 8:45 am]

BILLING CODE 4910-13-M